DEPARTMENT OF THE INTERIOR

National Park Service

[NPS-PWR-PWRO-13843; PX.DYOSE1318.00.1]

Final Environmental Impact Statement for the Restoration of the Mariposa Grove of Giant Sequoias, Yosemite National Park, Mariposa County, California

AGENCY: National Park Service, Interior.

ACTION: Notice of Availability.

SUMMARY: Pursuant to the National Environmental Policy Act of 1969, and consistent with the National Historic Preservation Act of 1966, the National Park Service (NPS) has prepared the Final Environmental Impact Statement for Restoration of the Mariposa Grove of Giant Sequoias (Mariposa Grove FEIS). The primary purpose of the proposed restoration is to restore dynamic natural processes that support the giant sequoias in Yosemite National Park and increase the resiliency of the Mariposa Grove to withstand a range of environmental stressors, and to improve the overall visitor experience in the Grove.

DATES: The National Park Service will execute a Record of Decision not sooner than 30 days after the date the U.S. Environmental Protection Agency publishes its notice of filing of the Mariposa Grove FEIS in the Federal Register.

FOR FURTHER INFORMATION CONTACT: Kimball Koch, Division of Project Management, Yosemite National Park, P.O. Box 700-W, 5083 Foresta Road, El Portal, CA 95318, (209) 379-1202. Request printed documents or CDs through email (yose_planning@nps.gov) or by telephone (209) 379-1202. The Mariposa Grove FEIS will be available at libraries in local communities. Electronic versions will be available online at http://parkplanning.nps.gov/mariposagrove.

Background: The Mariposa Grove encompasses about 500 mature giant sequoia trees that are among the oldest and largest living organisms in the world. These immense trees were so inspirational to early visitors that Congress passed legislation to permanently preserve the Mariposa Grove in the midst of the Civil War (Act of Congress, June 30, 1864). Comprehensive actions are needed to ensure that the Mariposa Grove continues to thrive and provide inspiration and enjoyment for future generations.

Range of Alternatives: The National Park Service developed the Mariposa Grove FEIS through consultation with traditionally associated American Indian tribes and groups, the State Historic Preservation Officer, and other federal and state agencies. Organizations and interested members of the public provided 334 public correspondences on the Draft EIS. The NPS conducted two public meetings during the public comment period, attended by about 90 people.

The Mariposa Grove FEIS identifies and evaluates a No Action Alternative (Alternative 1) and three action alternatives (Alternatives 2-4) to restore natural habitat within the Mariposa Grove and improve the visitor experience. Alternatives 2-4 propose comprehensive ecological restoration actions, including improvement of hydrologic flows, restored natural habitat, and improved visitor orientation and interpretation. Key distinctions among Alternatives 2-4 include the location of a new hub for public parking and visitor services, and the availability of shuttle service and commercial tram service to the Grove.

Alternative 1 (No Action) would continue current management and trends. The lower Mariposa Grove area would continue to serve as the primary arrival point and visitor information center. Existing buildings and infrastructure within the Mariposa Grove, including a commercial tram operation, would remain. The shuttle service connecting the overflow parking areas at Wawona to the South Entrance and the Grove would continue to operate.

Alternative 2 (South Entrance Hub) is the agency-preferred alternative. To allow for restoration of giant sequoia habitat, wetlands, and soundscapes within the Mariposa Grove, this alternative would relocate parking and the visitor information center to a primary transit hub and contact area near the South Entrance of Yosemite. A park shuttle would transport visitors two miles from the South Entrance to the lower Grove area, or visitors could hike to the Grove along a proposed new trail. Commercial tram operations would be removed from the Grove. Limited parking would be available in the lower Grove area during the off-season, weather permitting.

Alternative 3 (Grizzly Giant Hub) would provide for restoration of wetlands and giant sequoia habitat in the lower portion of the Mariposa Grove and construct a new parking and visitor information center near the Grizzly Giant tree. This alternative would require construction of a new bypass road to the new visitor hub and would eliminate the need for commercial tram and park shuttle operations.

Alternative 4 (South Entrance Hub with Modified Commercial Tram) would allow for restoration of wetlands, soundscapes, and giant sequoia habitat within the Mariposa Grove by relocating public parking and facilities out of the lower portion of the Grove to the South Entrance of Yosemite, as in Alternative 2. Alternative 4 would relocate the commercial tram operation to the South Entrance area and reduce the route and hours of operation within the upper Grove area to enhance sequoia habitat and improve the soundscape and overall visitor experience within the Grove. As in Alternative 2, parking would be relocated to the South Entrance, and visitors would use the park shuttle for the two-mile ride to the Grove. Limited off-season parking would be available in the lower Grove area, weather permitting.

Changes Incorporated in Final EIS: In response to the public comments received on the Draft EIS and new information derived from subsequent geo-technical studies, minor changes are incorporated into the Mariposa Grove FEIS in Alternative 2 and Alternative 4. These changes do not substantially alter the determinations of potential effects as disclosed in the Draft EIS. The changes include:

1. Reconfigure facilities at the South Entrance hub to accommodate additional parking (up to approximately 285 spaces) and flex-spaces to accommodate oversize vehicles.

2. Provide an off-season overflow parking area near the picnic area.

3. Increase the size of the buried water tank at South Entrance.

4. Explore additional options for the location of the septic system and leach field.

Decision Process: As noted above, not sooner than 30 days after the Environmental Protection Agency notice is published in the Federal Register, the National Park Service will prepare a Record of Decision. Notice of project approval through the signing of the Record of Decision will be published in the Federal Register by the National Park Service. Because this is a delegated EIS, the official responsible for approval of the project is the Regional Director, Pacific West Region, National Park Service. Subsequently, the official responsible for project implementation is the Superintendent, Yosemite National Park.

Dated: September 13, 2013.
Cynthia L. Ip,
Acting Regional Director, Pacific West Region.

[FR Doc. 2013-26468 Filed 11-4-13; 8:45 am]

BILLING CODE 4312-FF-P